SMALL BUSINESS ADMINISTRATION

Revocation of License of Small Business Investment Company

Pursuant to the authority granted to the United States Small Business Administration by the Final Order of the United States District Court for the District of New Jersey, dated September 13, 2000, the United States Small Business Administration hereby revokes the license of First Princeton Capital Corporation, a New Jersey Corporation, to function as a small business investment company under the Small Business Investment Company License No. 02/02-0449 issued to First Princeton Capital Corporation on March 8, 1983 and said license is hereby declared null and void as of September 30, 2000.

Dated: January 11, 2001.
Small Business Administration.
Don A. Christensen,
Associate Administrator for Investment.

[FR Doc. 01-2215 Filed 1-24-01; 8:45 am]

BILLING CODE 8025-01-P